DEPARTMENT OF COMMERCE

National Oceanic and Atmospheric Administration

RIN 0648-XH085

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint VMS/Enforcement Committee and Advisory Panel to consider actions affecting New England fisheries in the exclusive economic zone (EEZ). Recommendations from this group will be brought to the full Council for formal consideration and action, if appropriate.

DATES: This meeting will be held on Thursday, July 25, 2019 at 9:30 a.m.

ADDRESSES: The meeting will be held at the Courtyard by Marriott, 1000 Market Street, Portsmouth, NH 03801; telephone: (603) 436-2121.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee and Advisory Panel will give an update on the Compliance Assistance Program (CAP) boardings since the last enforcement committee meeting. They will also discuss Northeast Multispecies (Groundfish) Catch Share (Sector) Review as well as capture enforcement challenges under current regulations for inclusion in the Catch Share Review. The committee and advisory will also discuss compliance improvement recommendation—Groundfish Sector Management and review alternatives under consideration in Amendment 23 and provide recommendations regarding their enforceability in particular (a) Dockside Monitoring Program in terms of inspection of fish holds; (b) Exemptions for vessels fishing exclusively west of 72 degrees 30 minutes west longitude or 71 degrees 30 minutes west longitude in regards to increased VMS polling and transit rules; (c) At-sea monitoring (human observers and electronic monitoring; (d) Audit model electronic monitoring option and (e) Maximized retention option. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: July 5, 2019.
Tracey L. Thompson,
Acting Deputy Director, Office of Sustainable Fisheries, National Marine Fisheries Service.

[FR Doc. 2019-14712 Filed 7-9-19; 8:45 am]

BILLING CODE 3510-22-P